DEPARTMENT OF STATE

[Public Notice 6085]

Bureau of Democracy, Human Rights and Labor DRL; Proposal Submission Instructions Open Comment

Notice: The State Department's Bureau of Democracy, Human Rights and Labor (DRL) revised its Proposal Submission Instructions (PSI) for grant awards in June 2007 to provide additional guidance to applicants and to increase formatting uniformity so that all received proposals are fairly reviewed based upon common criteria and definitions of terms.

DRL requests feedback on this revised PSI in an effort to review the effectiveness of these new guidelines. Interested organizations should complete the questionnaire below. All feedback will be reviewed. DRL reserves the right to adjust or adapt the submission instructions accordingly. Solicitation of feedback does not imply endorsement of comments received.

Questionnaires must not exceed four double-spaced pages and must be completed in Times New Roman 12 point font. Organizations are asked to submit only one questionnaire each.

Please submit one response to the questionnaire per organization to DRL no later than 5 p.m. on February 20, 2008. Questionnaires should be sent to DRL via e-mail to SteinhelferMD@state.gov.

We thank you for taking the time to provide your feedback to DRL.

The PSI is located on the DRL Web site: http://state.gov/g/drl/p/c9078.htm.

Additional Information: Proposal Submission Instructions Questionnaire

Organization Name:

Current DRL Grantee: YES or NO

Have you ever used the PSI before: YES or NO

For each section below, please highlight either Strongly Agree, Agree, Neutral, Disagree, Strongly Disagree, or Not Applicable (N/A)

General Information on Proposal Submission Instructions (PSI):

1. The PSI provides useful guidelines for developing the content and format of a proposal.

Strongly Agree Agree Neutral Disagree Strongly Disagree N/A

2. The PSI is easy to understand and follow.

Strongly Agree Agree Neutral Disagree Strongly Disagree N/A

Information on Technical Format Requirements:

3. The technical format requirements provide a sufficient amount of detail on the requested proposal and budget components.

Strongly Agree Agree Neutral Disagree Strongly Disagree N/A

4. The 6 pages allowed for the budget narrative provides enough space to give detailed budget information.

Strongly Agree Agree Neutral Disagree Strongly Disagree N/A

5. The 5 pages allowed for attachments are sufficient for providing all necessary supplemental information.

Strongly Agree Agree Neutral Disagree Strongly Disagree N/A

Please use the space below to provide additional comments or to clarify responses about the Technical Format Requirements section of the PSI.

Information on Standard Forms:

6. The PSI contains adequate instructions for completing the required standard forms.

Strongly Agree Agree Neutral Disagree Strongly Disagree N/A

Please use the space below to provide additional comments or to clarify responses about the Standard Form section of the PSI.

Information on Cost-Sharing:

7. The cost sharing principles outlined in the PSI are easy to implement.

Strongly Agree Agree Neutral Disagree Strongly Disagree N/A

Please use the space below to provide additional comments or to clarify responses about the Cost-Sharing section of the PSI.

Information on Program Monitoring and Evaluation:

8. The Monitoring and Evaluation section of the PSI provides clear guidelines for developing a well-designed monitoring and evaluation plan.

Strongly Agree Agree Neutral Disagree Strongly Disagree N/A

9. The differences between project outputs and outcomes are well-defined.

Strongly Agree Agree Neutral Disagree Strongly Disagree N/A

Please use the space below to provide additional comments or to clarify responses about the Monitoring and Evaluation section of the PSI.

Information on Budget Guidelines:

10. PSI budget guidelines provide clear instructions on how to develop comprehensive summary and line-item budgets.

Strongly Agree Agree Neutral Disagree Strongly Disagree N/A

11. The PSI clearly delineates what costs should be included under Administrative versus Program costs.

Strongly Agree Agree Neutral Disagree Strongly Disagree N/A

12. The budget template is a helpful tool for creating a program budget.

Strongly Agree Agree Neutral Disagree Strongly Disagree N/A

13. Descriptions of line-item categories are useful for developing the budget and budget narrative.

Strongly Agree Agree Neutral Disagree Strongly Disagree N/A

14. My organization has a good understanding of which costs are not DRL priorities.

Strongly Agree Agree Neutral Disagree Strongly Disagree N/A

Please use the space below to provide additional comments or to clarify responses about the Budget section of the PSI:

Please use the space below to provide any additional information on the PSI content.

Dated: January 23, 2008.
Jonathan Farrar,
Acting Assistant Secretary, Bureau of Democracy, Human Rights and Labor, Department of State.

[FR Doc. E8-1750 Filed 1-30-08; 8:45 am]

BILLING CODE 4710-18-P